DEPARTMENT OF DEFENSE

Office of the Secretary

[Docket ID DoD-2015-OS-0097]

Proposed Collection; Comment Request

AGENCY: Office of the Secretary of Defense of Personnel and Readiness, DoD.

ACTION: Notice.

SUMMARY: In compliance with the Paperwork Reduction Act of 1995, the Office of the Secretary of Defense of Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 18, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Mr. Sam Peterson at Defense Manpower Data Center, 400 Gigling Road, Seaside, CA 93955-6771.

SUPPLEMENTARY INFORMATION: Title; Associated Form; and OMB Number: Collection of Required Data Elements to Verify Eligibility; OMB Control Number 0704-0545.

Needs and Uses: The information collection requirement is necessary for the Government to verify whether or not an individual was impacted by the OPM cybersecurity incident involving background investigation records and to send a letter confirming status as “impacted” or “not impacted” by this incident. Once the minimally required information has been input into the OPM secure portal, it will be compared to an electronic master file and verification will be accomplished electronically. After the Government has validated the individual's status, the DoD Defense Manpower Data Center (DMDC) will generate and mail a response letter. This letter will either confirm eligibility and contain a PIN for impacted individuals, or confirm that the individual was not impacted by this cybersecurity incident

Affected Public: Individuals or Households.

Annual Burden Hours: 83,333.

Number of Respondents: 1,000,000.

Responses per Respondent: 1.

Annual Responses: 1,000,000.

Average Burden per Response: 5 minutes.

Frequency: On occasion.

For the purposes of this submission, the affected public is comprised of military applicants, and employees of government contractors, experts, instructors, and consultants to Federal programs who underwent a personnel background investigation after January 1, 1990. Additionally, other individuals whose Social Security Numbers (SSN) were provided on an SF 85, SF85-P or SF86 after January 1, 1990. Lastly, it also applies to individuals who submit a breach verification inquiry as well as minor children, who were minors as of July 1, 2015, of individuals described in this paragraph.

Dated: February 11, 2016.
Aaron Siegel,
Alternate OSD Federal Register Liaison Officer, Department of Defense.

[FR Doc. 2016-03161 Filed 2-16-16; 8:45 am]

BILLING CODE 5001-06-P